DEPARTMENT OF AGRICULTURE

Animal and Plant Health Inspection Service

[Docket No. APHIS-2024-0069]

Notice of Request for Extension of Approval of an Information Collection; Highly Pathogenic Avian Influenza (HPAI); Additional Testing and Reporting of HPAI in Livestock and Milk

AGENCY: Animal and Plant Health Inspection Service, USDA.

ACTION: Extension of approval of an information collection; comment request.

SUMMARY: In accordance with the Paperwork Reduction Act of 1995, this notice announces the Animal and Plant Health Inspection Service's intention to request an extension of approval of an information collection associated with testing of milk from dairy cattle with reference to the incidence of highly pathogenic avian influenza in dairy cattle.

DATES: We will consider all comments that we receive on or before April 21, 2025.

ADDRESSES: You may submit comments by either of the following methods:

• Federal eRulemaking Portal: Go to www.regulations.gov. Enter APHIS-2024-0069 in the Search field. Select the Documents tab, then select the Comment button in the list of documents.

• Postal Mail/Commercial Delivery: Send your comment to Docket No. APHIS-2024-0069, Regulatory Analysis and Development, PPD, APHIS, Station 2C-10.16, 4700 River Road, Unit 25, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on APHIS Veterinary Services' efforts to control and eradicate HPAI in dairy cattle, contact Dr. Megan Schmid, Assistant Director, Cattle Health Center, VS, APHIS, 2150 Centre Ave., Bldg. B, Fort Collins, CO 80524; (512) 745-9862; email: megan.j.schmid@usda.gov. For more detailed information on the information collection process, contact Mr. Joseph Moxey, APHIS' Paperwork Reduction Act Coordinator, at (301) 851-2533 or email: joseph.moxey@usda.gov.

SUPPLEMENTARY INFORMATION:

Title: Highly Pathogenic Avian Influenza (HPAI); Additional Testing and Reporting of HPAI in Livestock and Milk.

OMB Control Number: 0579-0496.

Type of Request: Extension of approval of an information collection.

Abstract: The Animal Health Protection Act (AHPA) of 2002 is the primary Federal law governing the protection of animal health. The law gives the Secretary of Agriculture broad authority to detect, control, or eradicate pests or diseases of livestock or poultry. The Secretary may also prohibit or restrict import or export of any animal or related material if required to prevent the spread of any livestock or poultry pest or disease. AHPA is contained in title X, subtitle E, sections 10401-10418 of Public Law 107-171, May 13, 2002, the Farm Security and Rural Investment Act of 2002; 7 U.S.C. 8301, et seq.

Within the U.S. Department of Agriculture (USDA), Animal and Plant Health Inspection Service (APHIS), part of Veterinary Services' mission is preventing foreign animal disease outbreaks in the United States, and monitoring, controlling, and eliminating a disease outbreak should one occur. Highly pathogenic avian influenza (HPAI) is a contagious viral disease of domestic poultry and wild birds. HPAI is deadly to domestic poultry and can wipe out entire flocks within a matter of days. HPAI is a threat to the poultry industry, animal health, human health, trade, and the economy worldwide. In the United States, HPAI H5N1 was detected in dairy cattle in March 2024. As of February 10, 2025, USDA has confirmed 964 HPAI H5N1 detections in 17 States (California, Colorado, Kansas, Idaho, Iowa, Michigan, Minnesota, Nevada, New Mexico, North Carolina, Ohio, Oklahoma, Oregon, South Dakota, Texas, Utah, and Wyoming). Additionally, in the last 30 days, APHIS has also confirmed 149 detections in poultry premises across 15 States.

USDA has already recognized HPAI as a threat, and APHIS already prohibits the interstate movement of animals infected with HPAI (9 CFR 71.3(b)). This new, distinct HPAI H5N1 virus genotype, infects both cattle and poultry. The phylogenetic and epidemiological data indicate spread between dairy premises and from dairy premises to poultry premises. The virus is shed in milk at high concentrations. Anything that encounters unpasteurized milk, such as spilled milk, or milk residue, has the potential to spread the virus to humans or other animals, and can contaminate vehicles and other objects or materials. These factors show that this outbreak is having a continuing sizable economic impact. In response, APHIS has issued two Federal Orders, thus far.

On April 24, 2024, APHIS issued a Federal Order to assist with developing a baseline of critical information and limiting the spread of H5N1 in dairy cattle. The Federal Order requires testing lactating dairy cattle prior to interstate movement and mandatory reporting from laboratories of positive influenza A cases in livestock as well as epidemiological reporting. APHIS has also been working to enhance ongoing herd surveillance through the HPAI Dairy Herd Status Program, which has begun using bulk milk testing.

On December 6, 2024, APHIS issued a second Federal Order to assist with limiting the spread of H5N1. This Federal Order specifically addresses the spread of the virus through raw milk and adds testing of raw (unpasteurized) milk to detect and provide data for the control and eradication of HPAI. Samples are to be collected at facilities that ship, receive, or transfer milk interstate. Laboratories and State veterinarians must report positive influenza A nucleic acid detection results (e.g., polymerase chain reaction or genetic sequencing) in diagnostic samples obtained from livestock, including raw (unpasteurized) milk, to APHIS. APHIS issued this second Federal Order because, while movement controls implemented under the earlier Federal Order have had a positive effect on reducing transmission across State lines, HPAI infections linger in States that have not been able to institute a widespread bulk milk testing program. Often the affected farms show no clinical signs. Supporting and requiring national level bulk milk testing will help States and producers identify areas where H5N1 is lingering. Owners of herds in which dairy cattle test positive for interstate movement, or herds identified through mandatory testing of raw (unpasteurized) milk for pasteurization, will be required to provide epidemiological information, including animal movement tracing to State animal health officials for follow up.

We are asking the Office of Management and Budget (OMB) to approve our use of these information collection activities for 3 years.

The purpose of this notice is to solicit comments from the public (as well as affected agencies) concerning our information collection. These comments will help us:

(1) Evaluate whether the proposed collection of information is necessary for the control and/or eradication of HPAI in dairy cattle, including whether the information will have practical utility;

(2) Evaluate the accuracy of our estimate of the burden of the collection of information, including the validity of the methodology and assumptions used;

(3) Enhance the quality, use, and clarity of the information to be collected; and

(4) Minimize the burden of the collection of information on those who are to respond, through use, as appropriate, of automated, electronic, mechanical, or other collection techniques or other technologies.

Estimate of burden: The public burden for this collection of information is estimated to average 1.065 hours per response.

Respondents: Dairy cattle producers; State, local, and Tribal governments; laboratory staff; accredited veterinarians; and other individuals, as appropriate.

Estimated annual number of respondents: 1,650.

Estimated annual number of responses per respondent: 35.7.

Estimated annual number of responses: 58,860.

Estimated total annual burden on respondents: 62,705 hours. (Due to averaging, the total annual burden hours may not equal the product of the annual number of responses multiplied by the reporting burden per response.)

All responses to this notice will be summarized and included in the request for OMB approval. All comments will also become a matter of public record.

Done in Washington, DC, this 12th day of February 2025.
Michael Watson,
Administrator, Animal and Plant Health Inspection Service.

[FR Doc. 2025-02853 Filed 2-19-25; 8:45 am]

BILLING CODE 3410-34-P